NUCLEAR REGULATORY COMMISSION

Dominion Nuclear Connecticut; Establishment of Atomic Safety and Licensing Board

[Docket No. 50-336 and 50-423; ASLBP No. 05-837-01-LR]

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Dominion Nuclear Connecticut

(Millstone Nuclear Power Station, Units 2 and 3)

Pursuant to a March 8, 2004 notice of opportunity for hearing published in the Federal Register (69 FR 11,897 (Mar. 12, 2004)), a Licensing Board is being established to conduct a proceeding on the February 1, 2005 petition for late intervention of Suffolk County, New York, regarding the January 22, 2004 Dominion Nuclear Connecticut applications for renewal of the Millstone Units 2 and 3 operating licenses.

The Board is comprised of the following administrative judges:

Michael C. Farrar, Chair, Atomic Safety and Licensing Board Panel, U.S. Nuclear Regulatory Commission, Washington, DC 20555-0001.

Alan S. Rosenthal, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents, and other materials shall be filed with the administrative judges in accordance with 10 CFR 2.302.

Issued at Rockville, Maryland, this 23rd day of February 2005.
G. Paul Bollwerk, III,
Chief Administrative Judge, Atomic Safety and Licensing Board Panel.

[FR Doc. 05-3864 Filed 2-28-05; 8:45 am]

BILLING CODE 7590-01-P